DEPARTMENT OF ENERGY

Federal Energy Regulatory Commission

[Docket Nos. TS04-261-000 et al.]

Alcoa Power Generating Inc. et al.; Notice of Filing

June 2, 2004.

In the matter of: TS04-76-000, TS04-51-000, TS04-230-000, TS04-103-000, TS04-255-000, TS04-242-000, TS04-172-000, TS04-236-000, TS04-6-000, TS04-73-000, TS04-5-000, TS04-262-000, TS04-257-000, TS04-4-000, TS04-2-000, TS04-249-000, TS04-256-000, TS04-266-000, TS04-259-000, TS04-167-000, TS04-176-000, TS04-45-000, TS04-46-000, TS04-62-000, TS04- 258-000, TS04-3-000, TS04-252-000, TS04-7-000, 001, TS04-263-000, TS04-231-000, TS04-152-000, TS04-222-000, TS04-253-000, TS04-97-000, TS04-17-000, TS04-1-000, TS04-213-000, TS04-183-000, TS04-260-000, TS04-397-000, and TS04-125-000; American Transmission Company, LLC, Bear Creek Storage Company, Black Marlin Pipeline Company, B-R Pipeline Company, Cross-Sound Cable Company LLC, Dauphin Island Gathering Partners, Discovery Gas Transmission LLC, Distrigas of Massachusetts LLC, Distrigas of Massachusetts LLC, Gulf South Pipeline Company, LP, Hampshire Gas Company, High Island Offshore System, LLC, Honeoye Storage Corporation and Keyspan LNG, KB Pipeline Company and Northwest Natural Gas Company, KB Pipeline Company and Northwest Natural Gas Company, Kinder Morgan Pipelines, MIGC, Inc., MIGC, Inc., Missouri Interstate Gas LLC, National Fuel Gas Distribution Corporation, National Fuel Gas Supply Corporation, National Grid, National Grid, NewCorp Resources Electric Cooperative, Inc., Nornew Energy Supply, Inc., Northwestern Energy, Ohio Valley Electric Corporation and Kentucky Electric Corporation, ONEOK, Inc., Petal Gas Storage, LLC, Questar Pipeline Company, Overthrust Pipeline Company and Southern Trails Pipeline Company, Saltville Gas Storage Company, LLC, Southwest Gas Transmission, LLC, Texas Gas Transmission, LLC, Total Peaking Services LLP, Transcontinental Gas Pipe Line Corporation, Trans-Union Interstate Pipelines, L.P., Tuscarora Gas Transmission Company, USG Pipeline Company, Williston Basin Interstate Pipeline Company, Wisconsin Public Service Corporation, and Upper Peninsula Power Company; Notice of Filing.

Between January 7, 2004, and May 20, 2004, the above-referenced Transmission Providers filed motions that requested a full or partial waiver or exemption from the requirements of Order No. 2004. FERC Stats. & Regs. ¶ 31,355 (2003). Interested parties may file a petition to intervene in each individual docket.

Any person desiring to intervene or to protest each filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene in each individual proceeding. All such motions or protests should be filed on or before the comment date, and, to the extent applicable, must be served on the applicant and on any other person designated on the official service list. These filings are available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: June 16, 2004.

Magalie R. Salas,
Secretary.

[FR Doc. E4-1278 Filed 6-8-04; 8:45 am]

BILLING CODE 6717-01-P